NATIONAL ARCHIVES AND RECORDS ADMINISTRATION

[NARA-2023-029]

Advisory Committee on the Records of Congress; Meeting

AGENCY: National Archives and Records Administration (NARA).

ACTION: Notice of Federal advisory committee meeting.

SUMMARY: We are announcing an upcoming meeting of the Advisory Committee on the Records of Congress in accordance with the Federal Advisory Committee Act. The committee advises NARA on the full range of programs, policies, and plans for the Center for Legislative Archives in the Office of Legislative Archives, Presidential Libraries, and Museum Services (LPM).

DATES: The meeting will be on June 5, 2023, from 10 a.m. to 12 p.m. EDT.

ADDRESSES: The meeting will take place at the U.S. Capitol Visitor Center, South Congressional Meeting Room, SVC 209-208, U.S. Capitol at First Street and East Capitol Street.

SUPPLEMENTARY INFORMATION: This meeting is open to the public. Due to restricted access at the U.S. Capitol Visitor Center, members of the public who wish to attend the Advisory Committee on the Records of Congress meeting are required to register for access to the meeting no later than Friday, June 2, 2023, by emailing the Secretary of the Senate Office at karen_paul@sec.senate.gov with your name and contact information.

Due to building security measures, attendees will be screened before entry and cannot bring certain items into the building. Please see https://www.visitthecapitol.gov/plan-visit/prohibited-items for a list of prohibited items.

Agenda

(1) Chair's Opening Remarks—Secretary of the U.S. Senate

(2) Recognition of Co-chair—Clerk of the U.S. House of Representatives

(3) Recognition of the Archivist of the United States

(4) Approval of the minutes of the last meeting

(5) Senate Archivist's report

(6) House Archivist's report

(7) Center for Legislative Archives update

(8) Other current issues and new business

Tasha Ford,
Committee Management Officer.

[FR Doc. 2023-10510 Filed 5-16-23; 8:45 am]

BILLING CODE 7515-01-P